DEPARTMENT OF HEALTH AND HUMAN SERVICES

Administration for Children and Families

Agency Recordkeeping/Reporting Requirements Under Emergency Review by the Office of Management and Budget (OMB)

Title: Child Care and Development Fund (CCDF) Financial Report, Form ACF-696T (Tribes)

OMB No.: 0970-0195.

Description: Tribes use the Financial Report Form ACF-696T to report Child Care and Development Fund (CCDF) expenditures. Authority to collect and report this information is found in Section 6580 of the Child Care and Development Block Grant Act of 1990, as revised. In addition to the Program Reporting Requirements set forth in 45 CFR Part 98, Subpart H, the regulations at 45 CFR 98.65(g) and 98.67(c)(1) authorize the Secretary to require financial reports as necessary.

Tribal grantees submit the ACF-696T report on an annual basis on behalf of the Tribal Lead Agency administering the Child Care and Development Fund (CCDF).

The American Recovery and Reinvestment Act (ARRA) of 2009, (Pub. L. 111-5) provides an additional $2 billion for the Child Care and Development Fund to help States, Territories, and Tribes provide child care assistance to low income working families. CCDF Program Instruction (CCDF-ACF-PI-2009-03) provided guidance on ARRA spending requirements.

Section 1512 of the ARRA legislation requires recipients to report quarterly spending and performance data on the public Web site, “Recovery.gov”. Federal agencies are required to collect ARRA expenditure data and performance data and these data must be clearly distinguishable from the regular CCDF (non-ARRA) funds. To ensure transparency and accountability, the ARRA requires Federal agencies and grantees to track and report separately on expenditures from funds made available by the stimulus bill. Office of Management and Budget (OMB) guidance implementing the ARRA legislation indicates that agencies requiring additional information for oversight should rely on existing authorities and reflect these requirements in their award terms and conditions as necessary, following existing procedures. Therefore, to capture ARRA expenditures, the ACF 696T has been modified (by the addition of two columns) for reporting ARRA data. In addition, a new data element will ask Tribes to estimate the number of child service months funded with ARRA dollars. The collection will not duplicate other information.

Respondents: Tribal CCDF Agencies.

Annual Burden Estimates
Instrument | Number of respondents | Number of responses per respondent | Average burden hours per response | Total burden hours
CCDF Tribal Plan | 232 | 1 | 8 | 1,856

Estimated Total Annual Burden Hours: 1,856.

Additional Information:

ACF is requesting that OMB grant a 90-day approval for this information collection under procedures for emergency processing by July 15, 2009. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 Street, NW., Washington, DC. 20503, FAX (202) 395-6974.

Dated: June 6, 2009.
Robert Sargis,
Reports Clearance Officer.

[FR Doc. E9-16478 Filed 7-14-09; 8:45 am]

BILLING CODE 4184-01-M